OFFICE OF PERSONNEL MANAGEMENT

5 CFR Part 410

RIN 3206-AK46

Training; Reporting Requirements

AGENCY: Office of Personnel Management.

ACTION: Final rule.

SUMMARY: The Office of Personnel Management (OPM) is issuing final regulations requiring agencies to report training data. The new regulations require all Federal agencies to collect information that supports agency determinations of its workforce training needs and to document the results of training and development programs implemented to address those needs by requiring input into the OPM Governmentwide Electronic Data Collection System.

DATES: June 16, 2006.

FOR FURTHER INFORMATION CONTACT: Loretta L. Reeves by telephone at (202) 606-2419, by fax at (202) 606-2329, by TDD at (202) 418-3134, or by e-mail at Loretta.Reeves@opm.gov.

SUPPLEMENTARY INFORMATION: On May 27, 2005, OPM issued proposed regulations (70 FR 30647) to amend the rules in 5 CFR part 410, subparts C, D, and G, and requested comments by July 26, 2005, which addressed agency training records and reporting requirements.

OPM created a Governmentwide electronic system to capture employee human resource information, which includes training data. This system is explained and agency reporting requirements are defined in the Guide to Personnel Recordkeeping (http://www.opm.gov/feddata/persdoc.asp) and the Guide to Human Resources Reporting (http://www.opm.gov/feddata/guidance.asp).

To support this data collection, OPM is clarifying established policy to ensure that agencies maintain records of their training plans and to require that agencies report training data beginning December 31, 2006, in the form as prescribed by the OPM Governmentwide Electronic Data Collection System. The Governmentwide system will allow agencies to maintain accurate records to facilitate reporting on a regular basis as prescribed by the Guide to Personnel Recordkeeping (http://www.opm.gov/feddata/persdoc.asp) and the Guide to Human Resources Reporting (http://www.opm.gov/feddata/guidance.asp). In addition, there is a change in the period of time required for retaining records in subparts C and D, and a new method for reporting requirements subpart G.

Comments

OPM received comments from two agencies and three individuals who work in the Federal training community. One agency concurred with the proposal to collect training data through the OPM Governmentwide Electronic Data Collection System. The comments from the other agency and the individuals focused on the compatibility of the data elements to Learning Management Systems (LMS); the timeframe required to report data to OPM; and the two guides referenced above to guide agencies through the implementation process of reporting training data. In addition, the commenters are concerned with providing aggregated costs for training (e.g., travel and per diem costs) and need more clarity on this issue to avoid reporting the same data in different data calls.

The agency expressed concern about the compatibility of data elements in a current LMS and the proposed timelines to begin providing training data to OPM. The agency explained that there are competing priorities for their resources, namely resourcing manual collection of the required 25 data elements vs. continuing to work towards enterprise Learning Management Systems integration. OPM understands this is a concern to many Federal agencies. The new training data requirements were coordinated with service providers under the e-Training Initiative. All service providers are currently working on incorporating the data requirements and developing a data feed to OPM's Enterprise Human Resource Integration (EHRI) data warehouse. Agencies with LMS that do not incorporate these data requirements should consider switching to an e-Training Initiative approved e-learning solution.

The agency is also concerned that, if they are required to provide training data to OPM within the given deadline of October 1, 2005, they would have to ask the vendors to customize their system at considerable added cost. While OPM understands this concern, agencies have been aware of OPM's requirement to report training data since October 2003, when the first Interface Control Document (ICD) was published. The new training data requirements were coordinated with service providers under the e-Training Initiative. As noted above, all e-Training Service Providers are currently working on incorporating the data requirements and developing a data feed to OPM's EHRI data warehouse. Agencies with LMS that do not incorporate these data requirements should consider switching to an e-Training Initiative approved e-learning solution or work to become compliant.

This agency also suggested that the deadlines for regular submittal be reviewed and consideration be given to allow the OPM-approved LMS vendors time to react to these requirements in order to better serve the agencies. OPM agrees and has changed the deadline to begin regular submittals to December 31, 2006. This new start date will give agencies more time to make adjustments to their current systems. OPM again notes that the new training data requirements were coordinated with service providers under the e-Training Initiative and all service providers are currently working on incorporating the data requirements and developing a data feed to OPM's EHRI data warehouse.

In addition, this agency felt that the referenced guidance does not provide clear business processes for meeting the reporting requirements. The proposed rule refers to guidance with specific information about how the training data should be provided; however, there are still unanswered questions about the process. Procedures for submitting training data are contained in the Guide to Personnel Recordkeeping (Table 3-I) and the Guide to Human Resources Reporting (Chapter 4 and Appendix A). Agencies should develop their own training and training documentation processes to meet the requirements of the guide. In addition, OPM will be providing the agencies with another reference guide to help HR offices understand how to report training data.

This same agency stated, if OPM anticipates that each agency pull this data from its respective systems, OPM will have to negotiate with their approved vendors in order to allow this level of raw data access to those hosted systems. The vendors provided through OPM's GoLearn site do not currently provide the necessary functionality to stream the data to OPM. In response, all service providers under the E-training initiative, including those vendors under OPM's GoLearn site are currently working on incorporating the data requirements and developing a data feed to OPM's EHRI data warehouse.

Also, this agency felt it does not have clarity on what is expected for cost data. Because most learning management systems are not financial systems, costs are usually estimates rather than actual costs. According to this agency, if estimates are not acceptable, its staff would have to create the necessary interface with their financial management and travel management systems. This agency contended that this would create a significant and undue hardship for them. The agency asserts that it is also unclear how this requirement will avoid reporting the same data in different data calls. The cost data that OPM requires is explained in the Guide to Human Resources Reporting (Chapter 4 and Appendix A). Agencies are free to determine which of their systems (HR, training, LMS, or financial) the data comes from to meet the data requirements as long as the information is reported accurately. At this time, OPM has no plans to request training data in another data call or through another mechanism so the chance for duplicative reporting should be minimal.

The same agency stated rules need to be clarified as they relate to the reporting requirements so that the rules fully address business processes. Procedures for submitting training data are contained in the Guide to Personnel Recordkeeping and the Guide to Human Resources Reporting. OPM does not dictate agency business processes; however, OPM is creating another guide to help explain the process for HR professionals that explains the reporting process in a different way. The title of the guide is Guide for Collection and Management of Training Information.

In addition, the individuals who commented stated that this requirement is an “unfunded mandate.” OPM understands that there can be costs associated with migrating to the EHRI standard, and will work with agencies to find the least costly method for meeting the training reporting requirement, including recommending the use of an e-Training Initiative Approved e-Learning Solution.

These individuals also indicated that the Rule needs to remove redundant reporting (e.g., travel, tuition). Agencies are free to determine which of their systems (HR, training, LMS, or financial) the data comes from to meet the data requirements. The rules on travel and tuition are explained and defined in the Guide to Human Resources Reporting. Depending on the agency's system, these cost items may have different uses internally; however, OPM decided to keep the distribution of these items as they appear in the Guide. Agencies will need to determine how to extract the data for each element to report to OPM as long as it is non-duplicative, accurate and complete.

An individual expressed concern about data elements themselves, the value of the elements and the integration of the elements with standards established under the e-Training Initiative for LMS. The data elements were established to meet both current and future requirements to analyze and report on the actual costs and utilization of training throughout the government. The new training data requirements have been coordinated with service providers under the e-Training Initiative and all service providers are currently working on incorporating the data requirements and developing a data feed to OPM's Enterprise Human Resource Integration (EHRI) data warehouse. As mentioned before, OPM has the responsibility and authority to establish standards for the collection and reporting of HR data. Agencies can meet these standards and requirements by using an e-Training Initiative approved e-Learning solution.

This individual was also concerned that agency systems may not readily crosswalk to the training elements match for match. It is up to the agency to determine how it can respond to the specific training values and elements required by the Governmentwide system.

One commenter indicated a concern that many of the data elements are not available as standard elements within agency training systems, and that, if they are available, the coding types are devised to meet the agency needs and may not correlate with OPM requirements. OPM understands this concern, and in response has changed the time when agencies are to begin reporting training data to December 31, 2006. This will give agencies more time to make the necessary adjustments to their systems to comply with the training data reporting requirement. Agencies can meet these standards and requirements by using an e-Training Initiative approved e-Learning solution.

The same individual stated that significant potential costs may be incurred in reconfiguring agency data systems to meet these standards. OPM understands that additional costs may be incurred and that some agencies may need additional time to possibly realign funding to reconfigure current agency systems. For those agencies that require additional time beyond the newly established date to begin reporting training data, December 31, 2006, OPM has added a provision (c) under section 410.701 which allows agencies to request an extension based on an agency's plan to meet the requirements at a later date. OPM also notes that service providers under the e-Training Initiative and all service providers are currently working on incorporating the data requirements and developing a data feed to OPM's Enterprise Human Resource Integration (EHRI) data warehouse. Agencies with LMS that do not incorporate these data requirements should consider switching to an e-Training Initiative approved e-learning solution.

The same individual expressed that OPM through the e-Training Initiative has endeavored to standardize LMS across agencies to achieve economies of scale and eliminate redundancies. This individual observed that in this process, OPM has directed that a number of data fields be established as standards within agency LMS applications. The individual stated that many of the elements required under this rule are not required as standard data elements within an LMS under the e-Training Initiative. OPM coordinated internally with e-Training Initiative, EHRI and OPM's policy offices to ensure that there is consistency with what training data is required and what training data agencies need to report. In May of 2005, these 27 data elements were requested to become mandatory and e-Training Service Providers have worked with vendors in order for LMS vendors to meet this new mandatory requirement. However, it is up to the agencies to determine the best solution for capturing the training data. OPM encourages the agencies to work with their e-Training Service Provider on the specific solution.

The same individual stated that several data elements are related to financial costs and observed that this data is normally maintained within agency financial systems. The commenter stated that agencies may be able to report on this data in the aggregate, but generally cannot do so on a course or per capita basis since many training and financial systems are not integrated. Agencies are free to determine which of their systems (HR, training, LMS, or financial) the data comes from to meet the data requirements. As long as the data is accurate, agencies can determine how to aggregate the responses in the report as required.

The same commenter suggested that agencies do not capture per diem cost separately from overall travel costs and observed that, generally, all travel costs are recorded as a collective total. Although per diem costs are a separate item in Table 3-I, OPM is mainly interested in the final cost of the travel for training completed by the employee and paid for by the Federal Government.

There were also concerns regarding the granularity of the data to be reported and the general value of that level of detail to OPM. One individual noted that reporting training information by training type, total contact hours, and total cost would appear to be more useful as an aggregate and would significantly lessen the administrative burden on agencies in collecting and managing this data. OPM is requesting the aggregate of the completed training events total cost only. Even though the required reporting process specifies the cost information needed, it is not an all-inclusive list nor is it at the lowest granular level of reporting cost. OPM's objective is to establish a level that is consistent for agencies Governmentwide. It is important that OPM require only the level of granularity that OMB, Congress and GAO have requested without having to go back out to the agencies to request more information on a regular basis.

One commenter stated that the requirement to begin reporting data as of April 1, 2005, is a burden for some components due to the complexity required to go back in time to attach additional data to historical information. OPM has not required that agencies capture historical training data. Agencies should start reporting data as of December 31, 2006. The April 1, 2005 date was originally set for the pilot to begin where agencies would have had the opportunity to report data and test the system to determine what errors in their reports need to be corrected and to be ready to submit accurate data by the effective date of the final regulation.

A commenter suggested that some components have no current LMS or electronic mechanism for collecting and submitting the requested data. Thus, the individual hoped that a reasonable amount of time will be allowed to collect and submit these data. OPM is aware there are agencies that do not have a LMS system; however, agencies can meet these standards and requirements by using an e-Training Initiative approved e-Learning solution. OPM has also changed the date when agencies must begin reporting training data to December 31, 2006, and has added a provision (c) under section 410.701, which allows agencies to request an extension based on their plan to meet the reporting requirement at a later date.

E.O. 12866, Regulatory Review

This rule has been reviewed by the Office of Management and Budget as a significant regulatory action in accordance with Executive Order 12866.

Regulatory Flexibility Act

I certify that these regulations would not have a significant economic impact on a substantial number of small entities because they would apply only to Federal agencies and employees.

List of Subjects in 5 CFR Part 410

Education, Government employees.

Office of Personnel Management.
Linda M. Springer,
Director.

Accordingly, OPM is amending part 410 of 5 CFR as follows:

PART 410—TRAINING

1. The authority citation for part 410 continues to read as follows:

Authority: 5 U.S.C. 4101, et seq.; E.O. 11348, 3 CFR, 1967 Comp., p. 275.

Subpart C—Establishing and Implementing Training Programs

§ 410.311 [Removed]

2. Remove § 410.311.

Subpart D—Paying for Training Expenses

§ 410.406 [Removed]

3. Remove § 410.406.

Subpart G—Reporting

4. In subpart G, revise the subpart title to read as set forth above:

5. Revise § 410.701 to read as follows:

§ 410.701 Reporting.

(a) Each agency shall maintain records of training plans, expenditures, and activities in such form and manner as necessary to submit the recorded data to the Office of Personnel Management (OPM) through the OPM Governmentwide Electronic Data Collection System.

(b) Beginning December 31, 2006, each agency shall report the training data for its employees' training and development at such times and in such form as required for the OPM Governmentwide Electronic Data Collection System, which is explained in the Guide to Personnel Recordkeeping and the Guide to Human Resources Reporting.

(c) Agencies may request an extension for the timeframe in which they will begin reporting the data under paragraph (b) of this section. OPM may grant an extension based on an approved agency plan to meet the reporting requirements. No extension will be granted for a timeframe beyond December 31, 2007.

(d) Each agency shall establish a Schedule of Records for information required to be maintained by this chapter in accordance with regulations promulgated by the National Archives and Records Administration (NARA).

[FR Doc. 06-4589 Filed 5-16-06; 8:45 am]

BILLING CODE 6325-39-P